DEPARTMENT OF TRANSPORTATION

Federal Aviation Administration

14 CFR Part 71

[Docket No. FAA-2012-0661; Airspace Docket No. 09-AWA-4]

RIN 2120-AA66

Proposed Amendment to Class B Airspace; Detroit, MI

Correction

In proposed rule document 2012-19902, beginning on page 48476-48491 in the issue of Thursday, August 14, 2012, make the following corrections:

1. In the first column titled “Area C”, third paragraph, fifth line, “5-mile arc” should read, “15 mile arc.”

2. In the first column titled “Area C”, third paragraph, eighth line, “5-mile arc” should read, “15 mile arc.”

3. In the first column titled “Area C”, third paragraph, twenty-second line, “5-mile arc” should read, “15 mile arc.”

4. In the first column titled “Area C”, third paragraph, twenty-third line, “5-mile arc” should read, “15 mile arc.”

5. In the second column titled “Area D”, first paragraph, eighth line, “5-mile arc” should read, “15 mile arc.”

6. In the second column titled “Area D”, first paragraph, eleventh line, “5-mile arc” should read, “15 mile arc.”

7. In the second column titled “Area E”, first paragraph, twenty-fourth line, “5-mile arc” should read, “15 mile arc.”

8. In the second column titled “Area E”, first paragraph, twenty-seventh line, “5-mile arc” should read, “15 mile arc.”

[FR Doc. C1-2012-19902 Filed 8-30-12; 8:45 am]

BILLING CODE 1505-01-D